DEPARTMENT OF STATE

Public Notice 11059]

Meeting of the United States-Colombia Environmental Affairs Council and Environmental Cooperation Commission

AGENCY: Department of State.

ACTION: Announcement of meetings of the United States-Colombia Environmental Affairs Council and Environmental Cooperation Commission and request for comments.

SUMMARY: The Department of State and the Office of the United States Trade Representative (USTR) are providing notice that the parties to the United States-Colombia Trade Promotion Agreement (TPA) and the United States-Colombia Environmental Cooperation Agreement (ECA) intend to hold a meeting of the Environmental Affairs Council (the “Council”) and a meeting of the Environmental Cooperation Commission (the “Commission”).

On March 24, the Council and Commission will meet in a closed government-to-government session to (1) review implementation of Chapter 18 (Environment Chapter), and discuss how parties are meeting their environment chapter obligations; (2) highlight environmental enforcement and achievements and share related lessons learned and best practices; (3) review the environmental cooperation program; and (4) receive a report from the Secretariat for Environmental Enforcement Matters.

On March 25, the Council invites all interested persons to attend a public session on Chapter 18 implementation, beginning at 10:00 a.m., at the Ministry of Trade Annex, located at Calle 28 No. 13-22, 9th Floor (Palma Real Building), Bogotá, Colombia. At the public session, the Council will welcome questions, input, and information about challenges and achievements in implementation of the Environment Chapter obligations and the related ECA. If you would like to attend the public session, please notify Sarah Flores and Katy Sater at the email addresses listed under the heading ADDRESSES. Please include your full name and identify any organization or group you represent. The Department of State and USTR also invite written comments or suggestions regarding implementation of Chapter 18, the ECA, or topics to be discussed at the Council meeting, to be submitted no later than March 16, 2020. When preparing comments, we encourage submitters to refer to Chapter 18 of the U.S.-Colombia TPA and the U.S.-Colombia ECA. (documents available at https://www.state.gov/key-topics-office-of-environmental-quality-and-transboundary-issues/current-trade-agreements-with-environmental-chapters/#colombia and https://ustr.gov/issue-areas/environment/bilateral-and-regional-trade-agreements). Instructions on how to submit comments are under the heading ADDRESSES.

DATES: The public session of the Council will be held on March 25, 2020, from 10:00 a.m. to 11:30 a.m., at the Ministry of Trade Annex, located at Calle 28 No. 13-22, 9th Floor (Palma Real Building), Bogotá, Colombia. We request comments and suggestions in writing no later than March 16, 2020.

ADDRESSES: Written comments or suggestions should be submitted to both:

(1) Sarah Flores, U.S. Department of State, Bureau of Oceans and International Environmental and Scientific Affairs, Office of Environmental Quality and Transboundary Issues by email to FloresSC@state.gov with the subject line “U.S.-Colombia TPA EAC/ECC Meeting”; and

(2) Katy Sater, Director for Environment and Natural Resources, Office of the United States Trade Representative by email to mary.c.sater@ustr.eop.gov with the subject line “U.S.-Colombia TPA EAC/ECC Meeting”.

If you have access to the internet you can view and comment on this notice by going to: http://www.regulations.gov/#!home and searching for docket number [DOS-2020-0012].

FOR FURTHER INFORMATION CONTACT: Sarah Flores, (202) 647-0156, or Katy Sater, (202) 395-9522.

Seth H. Vaughn,
Acting Director, Office of Environmental Quality and Transboundary Issues, U.S. Department of State.

[FR Doc. 2020-04487 Filed 3-4-20; 8:45 am]

BILLING CODE 4710-09-P